DEPARTMENT OF THE INTERIOR

Bureau of Land Management

[F-14838-B, F-14838-B2; AK-964-1410-KC-P]

Alaska Native Claims Selection

AGENCY: Bureau of Land Management, Interior.

ACTION: Notice of decision approving lands for conveyance.

SUMMARY: As required by 43 CFR 2650.7(d), notice is hereby given that an appealable decision approving lands for conveyance pursuant to the Alaska Native Claims Settlement Act will be issued to Bethel Native Corporation. The lands are in the vicinity of the Kwethluk River at Three Step Mountain and the Tuluksak River, approximately 30 miles east of the Native village of Tuluksak, Alaska, and are located in:

Seward Meridian, Alaska

T. 10 N., R. 61 W.,

Secs. 5, 6, and 7;

Secs. 8, 16, 17, and 18.

Containing approximately 4,198 acres.

T. 11 N., R. 61 W.,

Secs. 3 to 8, inclusive;

Secs. 17 to 20, inclusive;

Secs. 30 and 31.

Containing approximately 7,524 acres.

T. 12 N., R. 61 W.,

Secs. 31 to 34, inclusive.

Containing approximately 2,528 acres.

T. 10 N., R. 62 W.,

Secs. 1, 12, and 13.

Containing approximately 1,747 acres.

T. 5 N., R. 68 W.,

Secs. 1, 2, and 3;

Secs. 10 to 15, inclusive.

Containing approximately 5,590 acres.

Aggregating approximately 21,587 acres.

The subsurface estate in these lands, except that in the lands described below, will be conveyed to Calista Corporation when the surface estate is conveyed to Bethel Native Corporation:

Seward Meridian, Alaska

T. 10 N., R. 61 W.,

Secs. 7 and 8;

Secs. 16, 17, and 18.

Containing approximately 2,938 acres.

T. 10 N., R. 62 W.,

Secs. 12 and 13.

Containing approximately 1,107 acres.

Aggregating approximately 4,045 acres.

Calista Corporation received title to the subsurface estate in the lands described immediately above in a prior conveyance.

Notice of the decision will also be published four times in the Tundra Drums.

DATES: The time limits for filing an appeal are:

1. Any party claiming a property interest which is adversely affected by the decision shall have until January 16, 2007 to file an appeal.

2. Parties receiving service of the decision by certified mail shall have 30 days from the date of receipt to file an appeal.

Parties who do not file an appeal in accordance with the requirements of 43 CFR Part 4, Subpart E, shall be deemed to have waived their rights.

ADDRESSES: A copy of the decision may be obtained from: Bureau of Land Management, Alaska State Office, 222 West Seventh Avenue, #13, Anchorage, Alaska 99513-7599.

FOR FURTHER INFORMATION, CONTACT: The Bureau of Land Management by phone at 907-271-5960, or by e-mail at ak.blm.conveyance@ak.blm.gov. Persons who use a telecommunication device (TTD) may call the Federal Information Relay Service (FIRS) at 1-800-877-8330, 24 hours a day, seven days a week, to contact the Bureau of Land Management.

Kara Marciniec,
Land Law Examiner, Branch of Adjudication II.

[FR Doc. E6-21348 Filed 12-14-06; 8:45 am]

BILLING CODE 4310-$$-P